DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 2, 2010.

Interested persons are invited to submit written comments regarding the subject matter of the investigations to the Director, Division of Trade Adjustment Assistance, at the address shown below, not later than September 2, 2010.

Copies of these petitions may be requested under the Freedom of Information Act. Requests may be submitted by fax, courier services, or mail, to FOIA Disclosure Officer, Office of Trade Adjustment Assistance (ETA), U.S. Department of Labor, 200 Constitution Avenue, NW., Washington, DC 20210 or to foiarequest@dol.gov.

Signed at Washington, DC, this 13th day of August 2010.
Michael Jaffe,
Certifying Officer, Division of Trade Adjustment Assistance.

Appendix
[TAA petitions instituted between 8/2/10 and 8/6/10]
TA-W | Subject firm (petitioners) | Location | Date of institution | Date of petition
74452 | Leisure Arts (State/One-Stop) | Little Rock, AR | 08/02/10 | 07/30/10
74453 | REA Magnet Wire Company, Inc. (Workers) | Osceola, AR | 08/02/10 | 07/26/10
74454 | LSI Incorporated (Workers) | Fort Collins, CO | 08/02/10 | 07/22/10
74455 | Uniboard Fostoria, Incorporated (Company) | Fostoria, OH | 08/02/10 | 07/26/10
74456 | Global Recruiters of Boulder (Company) | Boulder, CO | 08/02/10 | 07/19/10
74457 | Leach International Esterline Corporation (State/One-Stop) | Buena Park, CA | 08/02/10 | 07/22/10
74458 | Smart-Sox, Incorporated (Company) | Thomasville, NC | 08/02/10 | 07/29/10
74459 | The Sun News/McClatchy Company (State/One-Stop) | Myrtle Beach, SC | 08/02/10 | 07/28/10
74460 | Sing Fai, Inc. (Workers) | San Francisco, CA | 08/03/10 | 07/24/10
74461 | Providence Chain Co. (Workers) | Providence, RI | 08/03/10 | 07/30/10
74462 | US Airways, Inc. (Worker) | Columbus, OH | 08/04/10 | 07/30/10
74463 | Kimble Chase Life Science and Research Products, LLC (Company) | Vineland, NJ | 08/04/10 | 07/14/10
74464 | BreconRidge Manufacturing Solutions (Company) | Ogdensburg, NY | 08/04/10 | 07/29/10
74465 | Harman Consumer, Inc. (Company) | Northridge, CA | 08/04/10 | 08/02/10
74466 | Hewlett Packard (Company) | Palo Alto, CA | 08/04/10 | 06/22/10
74467 | Zach System Corporation (Workers) | La Porte, TX | 08/04/10 | 08/03/10
74468 | Cameron Compression Systems (Union) | Buffalo, NY | 08/04/10 | 04/20/10
74469 | Deloitte Services, LP (State/One-Stop) | Boston, MA | 08/04/10 | 07/29/10
74470 | Standard Microsystems Corporation (SMSC) (State/One-Stop) | Hauppaugue, NY | 08/04/10 | 08/02/10
74471 | Alumax Service Center (Company) | Riverside, MO | 08/04/10 | 07/15/10
74472 | EMC Corporation (State) | Durham, NC | 08/04/10 | 07/30/10
74473 | EMC Corporation (State) | Alexandria, VA | 08/05/10 | 07/30/10
74474 | EMC Corporation (1) (State/One-Stop) | Berkeley Heights, NJ | 08/05/10 | 07/30/10
74475 | EMC Corporation (2) (State/One-Stop) | Berkeley Heights, NJ | 08/05/10 | 07/30/10
74476 | EMC Corporation (1) (State/One-Stop) | Colorado Springs, CO | 08/05/10 | 07/30/10
74477 | EMC Corporation (2) (State/One-Stop) | Colorado Springs, CO | 08/05/10 | 07/30/10
74478 | EMC Corporation (State/One-Stop) | Duluth, GA | 08/05/10 | 07/30/10
74479 | EMC Corporation (State/One-Stop) | Dallas, TX | 08/05/10 | 07/30/10
74480 | EMC Corporation (State/One-Stop) | White Plains, NY | 08/05/10 | 07/30/10
74481 | Diversey, Inc. (Company) | Sturtevant, WI | 08/06/10 | 08/04/10
74482 | Airolite, LLC (Company) | Marietta, OH | 08/06/10 | 07/09/10
74483 | Wood Group GTS (State/One-Stop) | East Windsor, CT | 08/06/10 | 08/03/10
74484 | New York Wire (Company) | Walterboro, SC | 08/06/10 | 08/02/10
74485 | Akzo Nobel Nonstick Coatings (Company) | Des Plaines, IL | 08/06/10 | 07/27/10
74486 | Precision Dormer, LLC (Company) | Crystal Lake, IL | 08/06/10 | 08/03/10
74487 | Aloecorp, Inc. (Company) | Lyford, TX | 08/06/10 | 08/04/10
74488 | Computer Sciences Corporation (CSC) (State/One-Stop) | Newark, DE | 08/06/10 | 07/30/10
74489 | Warner Chilcott Pharmaceuticals (Workers) | Norwich, NY | 08/06/10 | 08/06/10
74490 | Fermer Precision, Inc. (Company) | Ilion, NY | 08/06/10 | 07/23/10
74491 | Acme Electric (Company) | Lumberton, NC | 08/06/10 | 07/28/10
74492 | Rocky III Investments, LLC (State/One-Stop) | Grand Junction, CO | 08/06/10 | 08/02/10
74493 | Accenture, LLC (Workers) | Wilmington, DE | 08/06/10 | 07/26/10
74494 | Dyno Nobel, Inc. (State/One-Stop) | Ulster Park, NY | 08/06/10 | 07/28/10
74495 | General Electric Grove City (Workers) | Grove City, PA | 08/06/10 | 08/03/10

[FR Doc. 2010-20789 Filed 8-20-10; 8:45 am]

BILLING CODE 4510-FN-P